ELECTION ASSISTANCE COMMISSION

Sunshine Act Notice

AGENCY: Election Assistance Commission.

* * * * *

ACTION: Notice of public meeting.

Date & Time: Tuesday, July 13, 2004, at 1 p.m.

Place: U.S. Election Assistance Commission, 1225 New York Ave., NW., Suite 1100, Washington, DC 20005. (Metro stop: Metro Center).

Status: This meeting will be open to the public.

SUMMARY: The purpose of this meeting will be to receive general updates and reports on the following: EAC Administration, EAC Requirements Payments to States, the EAC Standards Board and Board of Advisors, the EAC Technical Guidelines and Development Committee and the Commission's two public hearings conducted on May 5th and June 3rd. The Commission will also review recommendations on the following: Best Practices, a Grant to the National Student and Parent Mock Election, the National Voter Registration Form, a Public Hearing on Poll Worker Recruitment and Training, Electronic Voting Security Resolution and the November Election Research Project. The Commission will also receive the following presentations: U.S. Department of Justice Election Crimes Branch and the National Software Reference Library for the National Institute of Standards and Technology.

* * * * *

Person to Contact for Information: Bryan Whitener, telephone: (202) 566-3100.

DeForest B. Soaries, Jr.,
Chairman, Election Assistance Commission.

[FR Doc. 04-14842 Filed 6-25-04; 1:05 pm]

BILLING CODE 6820-MP-M